DEPARTMENT OF DEFENSE

Department of the Army

[Docket ID USA-2020-HQ-0002]

Proposed Collection; Comment Request

AGENCY: Office of the Director of Army Safety, DoD.

ACTION: Information collection notice.

SUMMARY: In compliance with the Paperwork Reduction Act of 1995, the Office of the Director of Army Safety announces a proposed public information collection and seeks public comment on the provisions thereof. Comments are invited on: The accuracy of the agency's estimate of the burden of the proposed information collection; ways to enhance the quality, utility, and clarity of the information to be collected; and ways to minimize the burden of the information collection on respondents, including through the use of automated collection techniques or other forms of information technology.

DATES: Consideration will be given to all comments received by April 6, 2020.

ADDRESSES: You may submit comments, identified by docket number and title, by any of the following methods:

• Federal eRulemaking Portal: http://www.regulations.gov. Follow the instructions for submitting comments.

• Mail: Department of Defense, Office of the Chief Management Officer, Directorate for Oversight and Compliance, 4800 Mark Center Drive, Mailbox #24 Suite 08D09B, Alexandria, VA 22350-1700.

Instructions: All submissions received must include the agency name, docket number, and title for this Federal Register document. The general policy for comments and other submissions from members of the public is to make these submissions available for public viewing on the internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of the Director of Army Safety (ODASAF), 2530 Crystal Dr., Office of Director of Army Safety, ATTN: [Tim Mikulski], Arlington, VA 22202, or call ODASAF, at (703) 697-1321/1128, email timothy.h.mikulski.civ@mail.mil.

SUPPLEMENTARY INFORMATION:

Title; Associated Form; and OMB Number: Radiation Exposure Data Collection; DD Form 1952 (Dosimetry Application and Record of Previous Radiation Exposure), DA Form 7689 (Bioassay Information Summary Sheet); and 0702-XXXX.

Needs and Uses: The information collection requirement is to document and record an individual's external and internal short and long-term exposure to radioactive materials and radiation generating equipment. The information collection is also utilized to monitor, evaluate and control the risks and associated health hazards, conduct investigations, management studies and training to ensure individual qualifications and education in handling radioactive materials are maintained in compliance with the Nuclear Regulatory Commission (NRC) 10 CFR 20, Army NRC license conditions, and Occupational Safety and Health Administration (OSHA) 29 CFR 1926.53.

Affected Public: Individuals or households, Federal Government, State, Local Not-for-Profit or Tribal Governments.

Annual Burden Hours: 6.

Number of Respondents: 25.

Responses per Respondent: 1.

Annual Responses: 25.

Average Burden per Response: 15 minutes.

Frequency: On occasion.

Respondents are members of the public who are working in/around or visiting a Department of the Army facility where there is a potential to receive an exposure from ionizing radiation.

Dated: January 31, 2020.
Morgan E. Park,
Alternate OSD Federal Register Liaison Officer, Department of Defense.

[FR Doc. 2020-02206 Filed 2-4-20; 8:45 am]

BILLING CODE 5001-06-P